DEPARTMENT OF TRANSPORTATION

Research and Innovative Technology Administration

ITS Joint Program Office; Notice of Meeting

AGENCY: Research and Innovative Technology Administration (RITA), U.S. Department of Transportation.

ACTION: Notice.

This notice announces the cancellation of the Connected Vehicle Planning and Policy Stakeholder Meeting. The meeting was scheduled for Thursday, September 12, 2013 from 9:00 a.m. to 12:30 p.m. E.D.T. in the DOT Conference Center at the U.S. Department of Transportation, 1200 New Jersey Ave. SE., Washington, DC. The ITS Joint Program Office is considering rescheduling the meeting for a future date. In the meantime, stakeholders may be interested in attending the upcoming Connected Vehicle Program Public Meeting on September 24 to 26, 2013. For more information, visit http://www.its.dot.gov/meetings/connected_vehicle_policy.htm.

Questions about the cancellation may be emailed to (Elizabeth.Machek@dot.gov).

John Augustine,
Managing Director, ITS Joint Program Office.

[FR Doc. 2013-21990 Filed 9-9-13; 8:45 am]

BILLING CODE 4910-HY-P